DEPARTMENT OF HOMELAND SECURITY

U.S. Citizenship and Immigration Services

[OMB Control Number 1615-NEW]

Agency Information Collection Activities; New Collection

AGENCY: U.S. Citizenship and Immigration Services, Department of Homeland Security.

ACTION: 30-Day notice.

SUMMARY: The Department of Homeland Security (DHS), U.S. Citizenship and Immigration Services (USCIS) will be submitting the following information collection request to the Office of Management and Budget (OMB) for review and clearance in accordance with the Paperwork Reduction Act of 1995. The purpose of this notice is to allow an additional 30 days for public comments.

DATES: Comments are encouraged and will be accepted until January 26, 2023.

ADDRESSES: Written comments and/or suggestions regarding the item(s) contained in this notice, especially regarding the estimated public burden and associated response time, must be submitted via the Federal eRulemaking Portal website at http://www.regulations.gov under e-Docket ID number USCIS-2022-0010. All submissions received must include the OMB Control Number 1615-NEW in the body of the letter, the agency name and Docket ID USCIS-2022-0010.

FOR FURTHER INFORMATION CONTACT: USCIS, Office of Policy and Strategy, Regulatory Coordination Division, Samantha Deshommes, Chief, Telephone number (240) 721-3000 (This is not a toll-free number; comments are not accepted via telephone message.). Please note contact information provided here is solely for questions regarding this notice. It is not for individual case status inquiries. Applicants seeking information about the status of their individual cases can check Case Status Online, available at the USCIS website at http://www.uscis.gov, or call the USCIS Contact Center at (800) 375-5283; TTY (800) 767-1833.

SUPPLEMENTARY INFORMATION:

Background

On March 15, 2022, President Biden signed the EB-5 Reform and Integrity Act of 2022, Div. BB of the Consolidated Appropriations Act, 2022 (Pub. L. 117-103) into law, which revised INA 203(b)(5). The law immediately repealed the former Regional Center (RC) Program statute at Departments of Commerce, Justice, and State, the Judiciary, and Related Agencies Appropriations Act 1993, Public Law 102-395, 106 Stat. 1828, § 610(b).

The law also reauthorized a substantially reformed EB-5 Regional Center (RC) Program which became effective on May 14, 2022. Though USCIS will continue to provide similar services for the newly reformed RC program as it did under the former RC program (such as initial designations, petition adjudications, etc.), the newly authorized RC program has a different legal framework and requirements from the previously authorized program. Consequently, the current Form I-924 and Form I-924A would not sufficiently collect the necessary information required to adjudicate services under this new program. In an effort to reduce confusion for the services provided in the newly authorized RC program, USCIS discontinued the Form I-924 and Form I-924A collection of information and will be submitting a new information collection under a separate OMB Control Number. Furthermore, the new law included an exemption from the Paperwork Reduction Act for a 1-year period beginning on the date of the enactment of this Act, March 15, 2022. In order to meet the immediate requirements of the Act, the creation of new collections of information to address the newly authorized RC Program were expected to take effect 60 days after the date of the enactment of this Act, May 14, 2022.

Accordingly, USCIS created new forms to address the requirements in the EB-5 Reform and Integrity Act of 2022 and provide services under the newly authorized RC Program. USCIS created five new forms: Form I-956, Application for Regional Center Designation; Form I-956F, Application for Approval of an Investment in a Commercial Enterprise; Form I-956G, Regional Center Annual Statement; Form I-956H, Bona Fides of Persons Involved with Regional Center Program; Form I-956K, Registration for Direct and Third-Party Promoters. USCIS began accepting the new forms upon release after May 14, 2022.

On June 24, 2022, the U.S. District Court for the Northern District of California preliminarily enjoined USCIS from “treating as deauthorized the previously designated regional centers” including “processing new I-526 petitions from immigrants investing through previously authorized regional centers . . . just as the agency would do for a newly approved regional center.” Behring v. Mayorkas, Order Granting Plaintiff's Motion for a Preliminary Injunction, Case No. 22-cv-02487-VC (N.D. Cal. Jun 24, 2022). On September 1, 2022, the U.S. District Court in Behring approved a settlement between the parties. Under the terms of the settlement, previously designated regional centers did not lose their designation as a result of the EB-5 Reform and Integrity Act of 2022. As USCIS is working to implement the settlement, if it determines changes to the Forms I-956, I-956F, I-956G, I-956H, or I-956K are necessary, it will pursue such changes through either this new form development process or other appropriate mechanism.

Comments

The information collection notice was previously published in the Federal Register on September 2, 2022, at 87 FR 54233, allowing for a 60-day public comment period. USCIS received sixteen comments in connection with the 60-day notice.

You may access the information collection instrument with instructions, or additional information by visiting the Federal eRulemaking Portal site at: http://www.regulations.gov and enter USCIS-2022-0010 in the search box. The comments submitted to USCIS via this method are visible to the Office of Management and Budget and comply with the requirements of 5 CFR 1320.12(c). All submissions will be posted, without change, to the Federal eRulemaking Portal at http://www.regulations.gov, and will include any personal information you provide. Therefore, submitting this information makes it public. You may wish to consider limiting the amount of personal information that you provide in any voluntary submission you make to DHS. DHS may withhold information provided in comments from public viewing that it determines may impact the privacy of an individual or is offensive. For additional information, please read the Privacy Act notice that is available via the link in the footer of http://www.regulations.gov.

Written comments and suggestions from the public and affected agencies should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection:

(1) Type of Information Collection Request: New Collection.

(2) Title of the Form/Collection: Application for Regional Center Designation; Application for Approval of an Investment in a Commercial Enterprise; Regional Center Annual Statement; Bona Fides of Persons Involved with Regional Center Program; Registration for Direct and Third-Party Promoters.

(3) Agency form number, if any, and the applicable component of the DHS sponsoring the collection: I-956; I-956F; I-956G; I-956H; I-956K; USCIS.

(4) Affected public who will be asked or required to respond, as well as a brief abstract: Primary: Individuals or households. The Form I-956 is used to request U.S. Citizenship and Immigration Services (USCIS) designation as a regional center under Immigration and Nationality Act (INA) section 203(b)(5)(E), or to request an amendment to an approved regional center designated under INA 203(b)(5)(E). The Form I-956F is used by a designated regional center to request approval of each particular investment offering through an associated new commercial enterprise. The Form I-956G is used by regional centers to provide required information, certifications, and evidence to support their continued eligibility for regional center designation. Each approved regional center must file Form I-956G for each Federal fiscal year (October 1 through September 30) on or before December 29 of the calendar year in which the Federal fiscal year ended. The Form I-956H must be completed by each person involved with a regional center, new commercial enterprise, or affiliated job-creating entity and submitted as a supplement to Form I-956, Application for Regional Center Designation, or other forms where persons are required to attest to their eligibility to be involved with the EB-5 entity and compliance with INA section 203(b)(5)(H). The Form I-956K must be completed by each person acting as a direct or third-party promoter (including migration agents) of a regional center, any new commercial enterprise, an affiliated job-creating entity, or an issuer of securities intended to be offered to alien investors in connection with a particular capital investment project.

(5) An estimate of the total number of respondents and the amount of time estimated for an average respondent to respond: The estimated total number of respondents for the information collection I-956 is 400 and the estimated hour burden per response is 23 hours; the estimated total number of respondents for the information collection I-956F is 1,000 and the estimated hour burden per response is 25 hours; the estimated total number of respondents for the information collection I-956G is 643 and the estimated hour burden per response is 16.03 hours; for the audit requirement associated with the I-956G, the estimated total number of respondents for Compliance Review is 40 and the estimated hour burden per response is 24 hours and the estimated total number of respondents for the information collection during the Site Visit is 40 and the estimated hour burden per response is 16 hours; the estimated total number of respondents for the information collection I-956H is 3,643 and the estimated hour burden per response is 1.65 hours; the estimated total number of respondents for the information collection of Biometrics Processing for Form I-956H is 3,643 and the estimated hour burden per response is 1.17 hours; the estimated total number of respondents for the information collection I-956K is 632 and the estimated hour burden per response is 2.04 hours.

(6) An estimate of the total public burden (in hours) associated with the collection: The total estimated annual hour burden associated with this collection is 57,657 hours.

(7) An estimate of the total public burden (in cost) associated with the collection: The estimated total annual cost burden associated with this collection of information is $2,907,788.

Dated: December 21, 2022.
Samantha L Deshommes,
Chief, Regulatory Coordination Division, Office of Policy and Strategy, U.S. Citizenship and Immigration Services, Department of Homeland Security.

[FR Doc. 2022-28144 Filed 12-23-22; 8:45 am]

BILLING CODE 9111-97-P